DEPARTMENT OF AGRICULTURE

Forest Service

National Urban and Community Forestry Advisory Council

AGENCY: Forest Service, USDA.

ACTION: Notice of meeting.

SUMMARY: The National Urban and Community Forestry Advisory Council will meet via conference call on March 20, 2012. The conference call will be initiated in Washington, DC at the U.S. Department of Agriculture (USDA), Forest Service, Yates Building. The purpose of this meeting is to discuss and finalize the Council's 2011 annual accomplishment report, recommendations for the Secretary of Agriculture, the 2012 plan of work, and hear public input related to urban and community forestry.

DATES: The meeting will be held on March 20, 2012, from 12 noon to 1:30 p.m. or until Council business is completed.

ADDRESSES: The meeting will be initiated from the Yates Building, 201 14th Street, SW., Washington, DC 20250; Phone: 202-205-7829.

Written comments concerning this meeting should be addressed to Nancy Stremple, Executive Staff to the National Urban and Community Forestry Advisory Council, 201 14th Street SW., Yates Building (1 Central) MS-1151, Washington, DC 20250-1151. Comments may also be sent via email to nstremple@fs.fed.us, or via facsimile to 202-690-5792.

All comments, including names and addresses when provided, are placed in the record and are available for public inspection and copying. Visitors are encouraged to call ahead to facilitate entry into the Forest Service building.

FOR FURTHER INFORMATION CONTACT: Nancy Stremple, Executive Staff to the National Urban and Community Forestry Advisory Council, 201 14th Street. SW., Yates Building (1 Central) MS-1151, Washington, DC 20250-1151, phone 202-205-1054.

Individuals who use telecommunication devices for the deaf (TDD) may call the Federal Information Relay Service (FIRS) at 1-800-877-8339 between 8 a.m. and 8 p.m., Eastern Standard Time, Monday through Friday.

SUPPLEMENTARY INFORMATION: The meeting is open to the public. Those interested in attending should contact Nancy Stremple to be placed on the meeting attendance list or to receive call-in information. Council discussion is limited to Forest Service staff and Council members; however, persons who wish to bring urban and community forestry matters to the attention of the Council may file written statements with the Council staff (201 14th Street SW., Yates Building (1 Central) MS-1151, Washington, DC 20250-1151, email: nstremple@fs.fed.us) before or after the meeting. Public input sessions will be provided at the meeting.

Dated: February 28, 2012.
Robin L. Thompson,
Associate Deputy Chief, State and Private Forestry.

[FR Doc. 2012-5402 Filed 3-5-12; 8:45 am]

BILLING CODE 3410-11-P